DEPARTMENT OF COMMERCE

International Trade Administration

[A-533-809]

Notice of Initiation of Antidumping Duty Changed Circumstances Review: Certain Forged Stainless Steel Flanges from India

AGENCY: Import Administration, International Trade Administration, Department of Commerce.

SUMMARY: The Department of Commerce (the Department) has received information sufficient to warrant initiation of a changed circumstances review of the antidumping duty order on certain forged stainless steel flanges (flanges) from India. See Amended Final Determination and Antidumping Duty Order; Certain Forged Stainless Steel Flanges From India, 59 FR 5994, (February 9, 1994). In response to a request by Hilton Forge, the Department is initiating this changed circumstances review to determine whether Hilton Metal Forgings, Ltd. is the successor-in-interest to Hilton Forge.

EFFECTIVE DATE: January 4, 2006.

FOR FURTHER INFORMATION CONTACT: Fred Baker or Robert James, AD/CVD Operations, Office 7, Import Administration, International Trade Administration, U.S. Department of Commerce, 14th Street and Constitution Avenue, NW., Washington, DC 20230; telephone: (202) 482-2924 and (202) 482-0649, respectively.

SUPPLEMENTARY INFORMATION:

Background

On February 9, 1994, the Department published in the Federal Register the antidumping duty order on certain forged stainless steel flanges from India (59 FR 5994).

Pursuant to an August 31, 2004 request from Hilton Forge, the Department conducted a new shipper review of flanges from India. On October 28, 2005, the Department published the final results of the new shipper review, determining that a dumping margin existed for Hilton Forge for the period February 1 through July 31, 2004. See Certain Forged Stainless Steel Flanges from India; Final Results of New Shipper Review, 70 FR 62094 (October 28, 2005).

On November 14, 2005, Hilton Forge filed a request for a changed circumstances administrative review of the antidumping duty order on flanges from India, claiming that Hilton Forge has changed its name to Hilton Metal Forging Ltd., and has converted itself from a limited partnership firm into a company limited by shares. Hilton Forge requested that the Department determine whether Hilton Metal Forgings, Ltd is the successor-in-interest to Hilton Forge, in accordance with section 751(b) of the Tariff Act of 1930, as amended (the Tariff Act), and 19 CFR 351.216 (2005). In response to this request, the Department is initiating a changed circumstances review of this order.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the scope of the order.

Initiation of Antidumping Duty Changes Circumstances Review

Pursuant to section 751(b)(1) of the Tariff Act, the Department will conduct a changed circumstances review upon receipt of a request from an interested party or receipt of information concerning an antidumping duty order which shows changed circumstances exist to warrant a review of the order. On October 28, 2005, the Department published the final results of a new shipper review of flanges from India, which covered Hilton Forge. The Department determined that a dumping margin existed for Hilton Forge for the period February 1, 2004 through July 31, 2004. See 70 FR 60294. On November 14, 2005, Hilton Forge submitted its request for a changed circumstances review. With this request, Hilton Forge submitted certain information related to its claim that Hilton Forge changed its name to Hilton Metal Forging Ltd., and converted itself from a limited partnership company into a company limited by shares. Based on the information that Hilton Forge submitted regarding a name/status change, the Department has determined that changed circumstances sufficient to warrant a review exist. See 19 CFR 351.216(d).

In antidumping duty changed circumstances reviews involving a successor-in-interest determination, the Department typically examines several factors including, but not limited to, (1) management; (2) production facilities; (3) supplier relationships; and (4) customer base. See Brass Sheet and Strip from Canada: Notice of Final Results of Antidumping Administrative Review, 57 FR 20460, 20462 (May 13, 1992) and Certain Cut-to-Length Carbon Steel Plate from Romania: Initiation and Preliminary Results of Changed Circumstances Antidumping Duty Administrative Review, 70 FR 22847 (May 3, 2005) (Plate from Romania). While no single factor or combination of factors will necessarily be dispositive, the Department generally will consider the new company to be the successor to the predecessor if the resulting operations are essentially the same as those of the predecessor company. See, e.g., Industrial Phosphoric Acid from Israel: Final Results of Changed Circumstances Review, 59 FR 6944, 6945 (February 14, 1994), and Plate from Romania, 70 FR 22847. Thus, if the record evidence demonstrates that, with respect to the production and sale of the subject merchandise, the new company operates as the same business entity as the predecessor company, the Department may assign the new company the cash deposit rate of its predecessor. See, e.g., Fresh and Chilled Atlantic Salmon from Norway: Final Results of Changed Circumstances Antidumping Duty Administrative Review, 64 FR 9979, 9980 (March 1, 1999). Although Hilton Forge submitted documentation related to its name change, it failed to provide complete supporting documentation for the four elements listed above. Accordingly, the Department has determined that it would be inappropriate to expedite this action by combining the preliminary results of review with this notice of initiation, as permitted under 19 CFR 351.221(c)(3)(ii). Therefore, the Department is not issuing the preliminary results of its antidumping duty changed circumstances review at this time.

The Department will issue questionnaires requesting factual information for the review, and will publish in the Federal Register a notice of preliminary results of antidumping duty changed circumstances review, in accordance with 19 CFR 351.221(b)(2) and (4), and 19 CFR 351.221(c)(3)(i). The notice will set forth the factual and legal conclusions upon which our preliminary results are based and a description of any action proposed based on those results. Pursuant to 19 CFR 351.221(b)(4)(ii), interested parties will have an opportunity to comment on the preliminary results of review. In accordance with 19 CFR 351.216(e), the Department will issue the final results of its antidumping duty changed circumstances review not later than 270 days after the date on which the review is initiated.

During the course of this antidumping duty changed circumstances review, we will not change the cash deposit requirements for the merchandise subject to review. The cash deposit will be altered, if warranted, pursuant only to the final results of this review.

This notice of initiation is in accordance with section 751(b)(1) of the Tariff Act, 19 CFR 351.216(b) and (d), and 19 CFR 351.221(b)(1).

Dated: December 28, 2005.
Stephen J. Claeys,
Acting Assistant Secretary for Import Administration.

[FR Doc. E5-8274 Filed 1-3-06; 8:45 am]

BILLING CODE 3510-DS-S